DEPARTMENT OF THE TREASURY

Fiscal Service

Surety Companies Acceptable on Federal Bonds: Name Change and Change in State of Incorporation; Atlas Assurance Company of America

AGENCY: Financial Management Service, Fiscal Service, Department of the Treasury.

ACTION: Notice.

SUMMARY: This is Supplement No. 22 to the Treasury Department Circular 570; 2002 Revision, published July 1, 2002, at 67 FR 44294.

FOR FURTHER INFORMATION CONTACT: Surety Bond Branch at 202-874-6779.

SUPPLEMENTARY INFORMATION: Atlas Assurance Company of America has formally merged into and changed its name to Peerless Indemnity Insurance Company. The state of incorporation has also changed from the state of New York to the state of Illinois, effective December 31, 2002. The Company was last listed as an acceptable surety on Federal bonds at 67 FR 44300, July 1, 2002.

Federal bond-approving officers should annotate their reference copies of the Treasury Circular 570, 2002 revision, on page 44324 to reflect this change.

The Circular may be viewed and downloaded through the Internet at http:/www.fms.treas.gov/c570. A hard copy may be purchased from the Government Printing Office (GPO), Subscription Service, Washington, DC, telephone 202-512-1800. When ordering the Circular from GPO, use the following stock number: 769-004-04067-1.

Questions concerning this notice may be directed to the U.S. Department of the Treasury, Financial Management Service, Funds Management Division, Surety Bond Branch, 3700 East-West Highway, Room 6F07, Hyattsville, MD 20782.

Dated: June 25, 2003.
Wanda J. Rogers,
Financial Accounting and Services Division, Financial Management Services.

[FR Doc. 03-16989 Filed 7-3-03; 8:45 am]

BILLING CODE 4810-35-M